DEPARTMENT OF THE INTERIOR

Bureau of Land Management

[MT-070-08-1610-DQ-030E]

Notice of Availability of the Proposed Resource Management Plan and Final Environmental Impact Statement for the Butte Field Office, Montana

AGENCY: Bureau of Land Management, Interior.

ACTION: Notice of availability.

SUMMARY: In accordance with the National Environmental Policy Act of 1969 (NEPA) and the Federal Land Policy and Management Act of 1976 (FLPMA), the Bureau of Land Management (BLM) has prepared the Proposed Resource Management Plan and Final Environmental Impact Statement (PRMP/Final EIS) for the Butte Field Office, Montana.

DATES: The BLM planning regulations (43 CFR 1610.5-2) state that any person who meets the conditions as described in the regulations may protest the BLM's PRMP/FEIS. A person who meets the conditions and files a protest must file the protest within 30 days of the date that the Environmental Protection Agency (EPA) publishes its Notice of Availability in the Federal Register.

ADDRESSES: Copies of the PRMP/FEIS are available for public inspection at the BLM Butte Field Office, 106 North Parkmont, Butte, Montana. Interested persons may also review the PRMP/FEIS on the Internet at: http://www.blm.gov/mt/st/en/fo/butte_field_office.html. All protests must be in writing and mailed to the following addresses:

Regular Mail: Director (210), Attention: Brenda Williams, P.O. Box 66538, Washington, DC 20035.

Overnight Mail: Director (210), Attention: Brenda Williams, 1620 L Street, NW., Suite 1075, Washington, DC 20036.

FOR FURTHER INFORMATION CONTACT: Tim La Marr, RMP Project Manager, Bureau of Land Management, 106 North Parkmont, Butte, MT 59701, or by telephone at (406) 533-7645.

SUPPLEMENTARY INFORMATION: The Butte Field Office is located in southwest Montana in Beaverhead, Broadwater, Deer Lodge, Gallatin, Jefferson, Lewis and Clark, Park, and Silver Bow Counties. The planning area addressed in the PRMP/FEIS includes about 307,000 acres of the BLM surface lands and 652,000 acres of subsurface federal mineral estate administered by the Butte Field Office.

Copies of the PRMP/FEIS for the Butte Field Office have been sent to affected federal, state, and local government agencies, tribal governments, and other interested parties. There have been various opportunities for the public to provide input on this plan via public meetings, open houses, and multiple scoping periods where public comments have been solicited.

The PRMP/FEIS considers four alternatives and will include the use of community-based working groups to assist with site-specific travel planning. The PRMP/FEIS addresses the following five major issues:

(1) How will vegetation on the BLM lands be managed to achieve healthy ecosystems while providing for a broad range of multiple uses?

(2) How will the BLM lands be managed to provide wildlife and fish habitat, and to conserve and recover special status and priority species?

(3) How should the BLM manage motorized public travel to meet the needs for public access and resource uses while minimizing user conflicts and impacts to air, soil, watershed, vegetation, wildlife, and other resource values?

(4) How should recreation be managed to accommodate the full range of recreational uses enjoyed by the public on the BLM lands?

(5) Which areas, if any, should be managed as special designations, and how should they be managed to protect values that warrant their special designation status? The Preferred Alternative (Alternative B) includes active vegetation management to restore vegetation communities with associated forest product quantities being the same as, or slightly higher than, current levels, riparian management zones where meeting site-specific riparian objectives would receive primary consideration, and continuation of livestock grazing at approximately the same as current levels while meeting Land Health Standards. The Preferred Alternative would entail designation of four Areas of Critical Environmental Concern (ACEC), totaling 70,644 acres in area, with special management proposed for relevant and important values, as well as recommending two river segments, with a total length of 5.7 miles, as suitable for Wild and Scenic River Designation.

Comments on the Draft RMP/EIS received from the public and from the internal BLM review were incorporated as appropriate into the PRMP/FEIS. Public comments resulted in the addition of clarifying text and slight alterations of the Preferred Alternative but did not significantly change proposed land use decisions.

Instructions for filing a protest with the Director of the BLM regarding the PRMP/FEIS may be found in the Dear Reader letter of the PRMP/FEIS for the Butte Field Office and at 43 CFR 1610.5-2. E-mailed and faxed protests will not be accepted as valid protests unless the protesting party also provides the original letter by either regular or overnight mail postmarked by the close of the protest period. Under these conditions, the BLM will consider the e-mailed or faxed protest as an advance copy and it will receive full consideration. If you wish to provide the BLM with such advance notification, please direct fax protests to the attention of the BLM protest coordinator at (202) 452-5112, and e-mails to Brenda_Hudgens-Williams@blm.gov.

All protests, including the follow-up letter, if e-mailing or faxing, must be in writing and mailed to the appropriate address as set forth in the ADDRESSES section above.

Before including your phone number, e-mail address, or other personal identifying information in your protest, you should be aware that your entire protest—including your personal identifying information—may be made publicly available at any time. While you can ask us in your protest to withhold your personal identifying information from public review, we cannot guarantee that we will be able to do so.

Authority: 40 CFR 1506.6, 43 CFR 1610.2, and 43 CFR 1610.5-1.

Theresa M. Hanley,
Acting State Director.

[FR Doc. E8-22543 Filed 9-25-08; 8:45 am]

BILLING CODE 4310-DN-P